DEPARTMENT OF AGRICULTURE

Natural Resources Conservation Service

Environmental Statements; Availability

AGENCY: Natural Resources Conservation Service, USDA.

ACTION: Notice of availability.

SUMMARY: The Natural Resources Conservation Service (NRCS) has prepared a Draft Environmental Impact Statement consistent with the National Environmental Policy Act of 1969, as amended, to disclose potential effects to the human environment.

The section of Coal Creek that traverses Cedar City, Utah, has channel stability and capacity deficiencies that pose a threat to existing infrastructure and development due to flooding. The NRCS proposes to modify the Coal Creek channel to safely convey floodwaters from a 100-year flood event. In conjunction with the proposed channel improvements, two irrigation diversion/drop structures on Coal Creek (the Main Street Diversion and the Woodbury Diversion) will have to be reconstructed to eliminate significant channel and capacity restrictions. In conjunction with the reconstruction of the diversion structures, sedimentation facilities would be constructed to remove gravel from water diverted from the Main Street Diversion. Also as part of this project, Cedar City proposes to improve and expand an existing parkway along Coal Creek to enhance aesthetic values and provide recreational opportunities for community residents and visitors.

The Draft EIS presents detailed analyses for three alternatives. Alternative A—No Action, would continue the frequency and level of dredging and other management actions as they are currently planned. Existing channel and structural deficiencies would not be corrected.

Alternative B—Relocate Main Street Diversion, would remove the Main Street diversion/drop structure currently in use and relocate it to near 200 East. Implementation of this alternative would require approximately 3,250 feet of pipeline to be installed, flood and slope/grading-related channel modifications from Center Street to I-15, and the continuation of periodic dredging as necessary. A sedimentation basin would be constructed to remove gravels from diverted irrigation water. The Woodbury diversion/drop structure would be reconstructed. Under this alternative, the parkway would be extended to Airport Road and landscaped. Parkway Option B1 proposes a crosswalk at the Main Street Bridge. Parkway Option B2 proposes to access existing sidewalks from the pedestrian bridge at 400 North to cross Main Street and avoid additional property acquisition.

Alternative C—Replace Main Street Diversion, would modify the Main Street diversion/drop structure by removing approximately half the drop. Implementation of this alternative would require approximately 3,000 feet of pipeline to be installed, flood and slope/grading-related channel modifications from Center Street to west of I-15, and the continuation of periodic dredging as necessary. Two sedimentation basins would be constructed to remove gravels from diverted irrigation water. The Woodbury diversion/drop structure would be reconstructed. Under this alternative, the parkway would be extended to Airport Road and landscaped. In addition, a historic pedestrian truss bridge would be removed to prevent channel constriction and potential flooding. Parkway Option C1 would construct an elevated pedestrian pathway under the Main Street Bridge. Parkway Option C2 would construct a large box culvert for pedestrian use just north of the bridge and under Main Street.

As required by the NRCS for water projects, the National Economic Development (NED) benefit-cost process was used to determine benefit-cost ratios for each alternative. The alternative with the highest benefit-cost ratio (3.47:1) and thus designated as the NED Alternative was Alternative C, Parkway Option C1. Accordingly, the NRCS selected Alternative C, Parkway Option C1, as the Preferred Alternative.

Written comments regarding this Draft EIS should be mailed to: Marnie Wilson, Coal Creek EIS, USDA—NRCS, Wallace F. Bennett Federal Building, 125 South State Street, Room 4402, Salt Lake City, UT 84138-1100. Project information is also available on the Internet at: http://www.ut.nrcs.usda.gov under Public Notices. Comments must be received no later than 45 days after this notice is published (December 26, 2005). Comments may also be submitted by sending a facsimile to (801) 524-4593, or by e-mail to Marnie.Wilson@ut.usda.gov (please include the words “Coal Creek Comment” in the subject line of the E-mail).

EFFECTIVE DATE: November 11, 2005.

FOR FURTHER INFORMATION CONTACT: Marnie Wilson, Coal Creek EIS, USDA—NRCS, Wallace F. Bennett Federal Building, 125 South State Street, Room 4402, Salt Lake City, UT 84138-1100. Project information is also available on the Internet at: http://www.ut.nrcs.usda.gov under Public Notices.

SUPPLEMENTARY INFORMATION: Copies of the Draft EIS are available by request from Marnie Wilson at the address listed above. Basic data developed during the environmental evaluation are on file and may be reviewed by contacting Sylvia Gillen, Utah State Conservationist.

Signed in Salt Lake City, Utah on October 28, 2005.
Sylvia A. Gillen,
State Conservationist.

[FR Doc. 05-22358 Filed 11-7-05; 8:45 am]

BILLING CODE 3410-16-P